DEPARTMENT OF HOMELAND SECURITY

[Docket No. CISA-2025-0003]

Agency Information Collection Activities: The Office for Bombing Prevention (OBP)—Technical Analysis

AGENCY: Cybersecurity and Infrastructure Security Agency (CISA), Department of Homeland Security (DHS).

ACTION: 60-Day notice and request for comments; ICR request, 1670-NEW for comment.

SUMMARY: The Office for Bombing Prevention (OBP) within Cybersecurity and Infrastructure Security Agency (CISA) will submit the following new Information Collection Request (ICR) to the Office of Management and Budget (OMB) for review.

DATES: Comments are encouraged and will be accepted until September 16, 2025.

ADDRESSES: You may submit comments, identified by docket number Docket #CISA-2025-0003, at:

○ Federal eRulemaking Portal: http://www.regulations.gov. Please follow the instructions for submitting comments.

Instructions: All submissions received must include the agency name and docket number Docket #CISA-2025-0003. All comments received will be posted without change to http://www.regulations.gov, including any personal information provided.

Docket: For access to the docket to read background documents or comments received, go to http://www.regulations.gov.

FOR FURTHER INFORMATION CONTACT: Jeffrey Dade, jeffrey.dade@mail.cisa.dhs.gov, 771-202-2611.

SUPPLEMENTARY INFORMATION: This ICR is comprised of the following three related collections: (1) Unit Level Assessment Tool, (2) Technical Assistance Program Stakeholder Nomination Form, and (3) Technical Assistance Stakeholder Feedback Forms. Comprised within the Technical Assistance Stakeholder Feedback Forms are the following six forms: (1) BMAP Stakeholder Feedback Form, (2) Explosive Blast Modeling Stakeholder Feedback Form, (3) Technical Assistance Post Assessment Feedback Form, BMAP Outreach Mobile Data From, (5) Explosive Blast Modeling Request Form, and (6) Explosives Detection Canine Handler/Team Needs and Application Survey.

CISA is authorized to collect the information requested in this ICR pursuant to 6 U.S.C. 652, including the authority provided by 6 U.S.C. 652(c)(5), (11) (authorizing CISA to provide certain assistance to federal and non-federal entities to enhance the security and resiliency of critical infrastructure) and 6 U.S.C. 652(c)(10) (generally authorizing CISA to engage in stakeholder outreach and engagement).

Unit Level Assessment Tool (ULAT)

ULAT provides State, local, tribal and territorial law enforcement stakeholders a method to identify their level of capability to prevent, protect, mitigate, and respond to an IED threat. It also provides Federal stakeholders an overarching view of the Nation's collective counter-IED capabilities. Stakeholder voluntarily provide information on their capabilities to Office for Bombing Prevention (OBP) personnel and contractors. These individuals travel to locations across the Nation to gather the requisite information. OBP personnel and contractors facilitate initial baseline assessments, either face to-face or via webinar, in order to get stakeholders familiar with the ULAT system, provide clarifying information, and answer questions. Federal, State, local, tribal, and territorial law enforcement personnel with a counter- IED mission assist ULA personnel to coordinate a training location for personnel from the four disciplines (bomb squads, explosives detection canine, special weapons and tactics teams (SWAT), and dive units) to take their respective assessment. The OBP facilitator begins by conducting a short brief on the reasons for ULA's and how it can help them as units.

Unit Level Assessments consist of various question sets, including sets related to personnel, operations, equipment, training, and exercising (POETE). The OBP and ULA team used federal requirements (FEMA Resource Typing) to create the overarching list of questions in the question sets. Where there were no requirements, OBP and ULA worked with subject matter experts to identify best practices to create the assessments.

The first group of questions in the assessment focus on the profile of the unit, i.e., the number of technicians/handlers; primary assignment versus collateral duty assignment; number of IED responses in the past twelve (12) months; number of special events in the past twelve (12) months. The rest of the question sets are delineated by the following tasks: Implement Intelligence/Information Gathering and Dissemination; Implement Bombing Incident Prevention and Response Plans; Incident Analysis; Incident Mitigation; Access Threat Area; Contain or Mitigate Hazards; Conduct Scene Investigations; and Maintain Readiness.

Each discipline's questionnaire only includes question sets specific to that discipline. This means that while multiple disciplines may have the same question set title, the questions may not be the same. This tailoring allows for a large question pool, while ensuring specificity depending on the discipline being assessed.

The information from each individual unit is collected into the database. Upon completion of inputting the unit information, a capabilities analysis report is created for the unit commander. The report identifies current capabilities, existing gaps, and makes recommendations for closing those gaps. Additionally, the ULA utilizing the ULAT program, allows the unit commander to identify the most efficient and effective purchases of resources to close those gaps. At the State, regional, and National-levels, the data is aggregated within the selected discipline and provides a snapshot of the counter-IED capabilities across the discipline. OBP also intends to identify the lowest, highest, median, and average capability levels across units, States, regions, disciplines, and the Nation. This data will be used to provide snapshots of the C-IED capabilities and gaps to inform decision-makers on policy decisions, resource allocation for capability enhancement, and crisis management. Data collected will be used in readiness planning, as well as steady-state and crisis decision support during threats or incidents. ULA data will assist operational decision-makers and resource providers in developing investment justifications that support State homeland security strategies and national priorities.

All responses are collected by electronic means via the virtual assessment program. While the actual data collection is done in the ULAT database through the Counter I-ED Operational Data Analytics (CODA), OBP personnel facilitate the collection of the data by assisting users in a face-to-face discussion or webinar. It is current ULA policy to not accept the ULAT questionnaires in paper format. If there is a power outage at the event site or if the website is down due to technical reasons, facilitators have copies of the paper format for stakeholders to continue filling out. Facilitators do not collect these hard copies. Stakeholders keep them to update the electronic assessment when they next access it.

Technical Assistance Program (TAP) Stakeholder Nomination Form

The TAP Stakeholder Nomination form will be used to assist OBP in the selection of Stakeholders for each Fiscal Year (FY). We take recommendations from IOD personnel and stakeholders to assist in the selection of jurisdictions that will receive OBP Technical Assistance the following FY.

Technical Assistance Stakeholder Feedback Forms

(1) BMAP Stakeholder Feedback Form

Information for this program is being requested to enhance bombing prevention outreach through a voluntary stakeholder feedback form. This stakeholder feedback form would be digital in format and provided to point-of-sale businesses and FSLTT personnel who assist with the program or that have been contacted by BMAP in an effort to spread awareness of suspicious purchasing behavior and suspicious activity related to the acquisition of BMM. This voluntary feedback form would be provided to the point-of-sale business virtually and will only request input based on the experience that the business had with the BMAP team and its ability to conduct outreach. This feedback form will provide vital information which is necessary to streamline and improve processes and will allow BMAP to better target stores that sell BMM moving forward. This feedback form will also allow for an improvement of delivery of BMAP products and provide insight on the jurisdictions that the team visits.

(2) Explosive Blast Modeling (EBM) Stakeholder Feedback Form

The EBM Stakeholder Feedback Form will be used to gauge metrics of the program using the Likert score and assesses OBP annual goals and receives responses regarding actionable recommendations.

(3) Technical Assistance Post Assessment Feedback Form

Information for this program is being requested to assess, re-assess, and validate OBPs Technical Assistance Program pertaining to the delivery of training, products, tools and services to enhance bombing prevention capabilities through a voluntary stakeholder feedback form. This voluntary post assessment feedback form would be digital in format and provided to federal, state, local, tribal, and territorial (FSLTT) stakeholders who have requested OBPs resources through the Technical Assistance Program (TAP). TAP aims to develop and deliver comprehensive preparedness assistance, training, tools, and specialized assistance to a wide variety of stakeholders, to enhance the Nation's security and resiliency against explosive attacks, and to determine specific needs for assistance in managing IED risks and supporting C-IED response. TAP coordinates across OBP and relevant partners to provide communities with to meet their preparedness needs. This voluntary TAP Post Assessment Feedback form would be provided to FSLTT stakeholders virtually and will only request input based on the experience that the FSLTT stakeholders experienced with OBP personnel supporting their communities. This feedback form will provide vital information which is necessary to streamline and improve processes and will allow OBP to better deliver Technical Assistance.

(4) Bomb-Making Awareness Program (BMAP) BOM-D (BMAP Outreach Mobile-Data)) Form

Information for this program is being requested in an effort to enhance bombing prevention outreach throughout the retail community which houses or sells bomb making material (BMM). This information would be collected by Federal State, Local, Tribal, and Territorial (FSLTT) law enforcement personnel and those designated by FSLTT officials to act on their behalf. Information will be used to coordinate efforts with appropriate FSLTT partners who work in the first responder, law enforcement, and bombing prevention realm. Information will be collected by FSLTT partners through electronic methods and will be physically input into this form by FSLTT partners. Information will be collected from business listings located online as well as physical locations identified by FSLTT partners. Information will also be collected by business cards or other means provided to FSLTT partners by businesses who participate.

(5) Explosive Blast Modeling Program (EBM) Request Form

The Explosive Blast Modeling Program Request Form will be used to collect stakeholder location and facility specific information on entities who want the EBM service conducted. This information will be used to contact the stakeholders in order to schedule EBM.

(6) Explosive Detection Canine Handler/Team (EDCT) Needs and Application Survey Form

Providing this EDCT Form to police, fire, corrections, and military entities will enhance the ability of DHS/OBP to accomplish goals related to the DHS Canine and Equine Governance Board while also informing OBP's understanding of the capabilities of the aforementioned entities to provide critical infrastructure security.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

This is a new collection (1670-NEW) request.

Analysis

Agency: Cybersecurity and Infrastructure Security Agency (CISA), Department of Homeland Security (DHS).

Title: Office for Bombing Prevention Technical Analytics.

OMB Number: 1670-NEW.

Frequency: Annually or less.

Affected Public: Federal, state, local, and tribal government entities, and business or other for-profit.

Number of Respondents: 7,589.

Estimated Time per Respondent: 35 minutes.

Total Burden Hours: 5,057 hours.

Total Burden Cost: $301,337.

Total Annualized Government Cost: $301,337.

Robert J. Costello,
Chief Information Officer, Department of Homeland Security, Cybersecurity and Infrastructure Security Agency.

[FR Doc. 2025-13567 Filed 7-17-25; 8:45 am]

BILLING CODE 9111-LF-P